DEPARTMENT OF JUSTICE

Notice of Lodging of a Consent Decree Under the Comprehensive Environmental Response, Compensation and Liability Act

Under 28 CFR 50.7 and 42 U.S.C. 9622(i), notice is hereby given that on October 2, 2003, a proposed Consent Decree in United States v. Sidney Hasselquist, et al., Civil Action No. 8:03CV404 was lodged with the United States District Court for the District of Nebraska.

In this action the United States sought response costs relating to response actions by the Environmental Protection Agency (“EPA”) at the 10th Street Superfund Site in Columbus, Nebraska at which concentrations of trichloroethylene and tetrachloroethylene were discovered in the soil, soil gas and groundwater. The Consent Decree settles the United States' claims in exchange for EPA access to the Site and injunctive relief.

The Department of Justice will receive for a period of thirty (30) days from the date of this publication, comments relating to the Consent Decree. Comments should be addressed to the Assistant Attorney General, Environment and Natural Resources Division, P.O. Box 7611, U.S. Department of Justice, Washington, DC 20044-7611, and should refer to U.S. v. Sidney Hasselquist Consent Decree, D.J. Ref. 90-11-2-07430.

The Consent Decree may be examined at the Office of the United States Attorney, District of Nebraska, 1620 Dodge Street, Suite 1400, Omaha, NE 68102-1506, (402) 661-3700, and at U.S. EPA Region VII, U.S. EPA, Region VII, 901 N. 5th Street, Kansas City, KS 66101, (913) 551-7471. During the public comment period, the Consent Decree may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy form the Consent Decree Library, please enclose a check in the amount of $10.50 (25 cents per page reproduction cost) payable to the U.S. Treasury.

Robert Maher,
Assistant Chief, Environmental Enforcement Section, Environment and Natural Resources Division.

[FR Doc. 03-26246 Filed 10-16-03; 8:45 am]

BILLING CODE 4410-15-M